DEPARTMENT OF THE TREASURY

Submission for OMB Review; Comment Request

December 12, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before January 22, 2001 to be assured of consideration.

Internal Revenue Service (IRS)

OMB Number: 1545-1450.

Regulation Project Number: FI-59-91 Final.

Type of Review: Extension.

Title: Debt Instructions With Original Issue Discount; Anti-Abuse Rule.

Description: The regulations provide definitions, general rules, and reporting requirements for debt instruments that provide for contingent payments. The regulations also provide definitions, general rules, and recordkeeping requirements for integrated debt instruments.

Respondents: Individuals or households, Business or other for-profit, State, Local or Tribal Government.

Estimated Number of Respondents/Recordkeepers: 180,000.

Estimated Burden Hours Per Respondent/Recordkeeper: 30 minutes.

Frequency of Response: Annually.

Estimated Total Reporting/Recordkeeping Burden: 89,000 hours.

OMB Number: 1545-1573.

Regulation Project Number: REG-209463-82 NPRM.

Type of Review: Extension.

Title: Required Distributions from Qualified Plans and Individual Retirement Plans.

Description: The regulation permits a taxpayer to name a trust as the beneficiary of the employee's benefits under a retirement plan and use the life expectancies of the beneficiaries of the trust to determine the required minimum distribution, if certain conditions are satisfied.

Respondents: Individuals or households.

Estimated Number of Respondents: 1,000.

Estimated Burden Hours Per Respondent: 20 minutes.

Frequency of Response: On occasion.

Estimated Total Reporting Burden: 333 hours.

OMB Number: 1545-1583.

Regulation Project Number: REG-209322-82 Final.

Type of Review: Extension.

Title: Return of Partnership Income.

Description: Information is required to enable the IRS to verify that a taxpayer is reporting the correct amount of income or gain or claiming the correct amount of losses, deductions, or credits from that taxpayer's interest in the partnership.

Respondents: Business or other for-profit, Farms.

Estimated Number of Respondents: 1.

Estimated Burden Hours Per Respondent: 1 hour.

Frequency of Response: Annually.

Estimated Total Reporting Burden: 1 hour.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 00-32491 Filed 12-20-00; 8:45 am]

BILLING CODE 4830-01-P